DEPARTMENT OF COMMERCE

Bureau of Industry and Security

[Docket No. 060505121-6121-01]

Establishment of Advisory Committee and Clarification of Deemed Export-Related Regulatory Requirements

AGENCY: Bureau of Industry and Security, Commerce.

ACTION: Notice; extension.

SUMMARY: The Bureau of Industry and Security publishes this notice to extend the recruitment period on the Deemed Export Advisory Committee (DEAC). The original solicitation for this Federal Advisory Committee was published in the Federal Register on May 22, 2006. The DEAC will review and provide recommendations to the Department of Commerce on deemed export policy. The new deadline to respond to this recruitment notice is July 28, 2006.

DATES: Resumes must be received by July 28, 2006.

ADDRESSES: You may submit resumes to Ms. Yvette Springer by any of the following methods:

• E-mail to Yspringer@bis.doc.gov. Include “DEAC application” in the subject line of the message.

• Fax: 202-482-2927. Include “DEAC application” in the subject line of the message.

• Mail or Hand Delivery/Courier: U.S. Department of Commerce, Bureau of Industry and Security, Outreach and Education Services Division, 14th & Pennsylvania Avenue, NW., Room 1099D, Washington, DC 20230, ATTN: Ms. Yvette Springer—DEAC application.

FOR FURTHER INFORMATION CONTACT: Alex Lopes, Director, Deemed Exports and Electronics Division, Bureau of Industry and Security, Telephone: (202) 482-4875, or e-mail: alopes@bis.doc.gov.

SUPPLEMENTARY INFORMATION: The Bureau of Industry and Security publishes this notice to extend the recruitment period on the Deemed Export Advisory Committee (DEAC) from July 21, 2006 to July 28, 2006. The original solicitation for this Federal Advisory Committee was published in the Federal Register on May 22, 2006 (71 FR 29301). The purpose of the DEAC will be to review and provide recommendations to the Department of Commerce on deemed export policy.

The DEAC, which will not exceed 12 members, will be structured to ensure a balanced membership that will offer a comprehensive point of view on the complex technical and policy questions at issue. The advisory committee will consist of representatives from industry, academia, and other experts in the field to ensure a full discussion of all aspects of deemed exports and knowledge transfer from the corporate, academic, and national security perspectives. Members will be called upon to advise BIS on highly technical issues surrounding technology transfer and to help ensure that BIS effectively carries out its critical national security function. To that end, the DEAC shall have a diverse membership with expertise in national security affairs, scientific research and development (R&D) policy, and the various forms of technology subject to the EAR, such as nuclear, chemical, missile, electronics, computer, telecommunications, and avionic technology.

DEAC members will be appointed by the Secretary of Commerce and serve a term of not more than one year. DEAC members must obtain a secret security clearance prior to appointment. These clearances are necessary so that members may be permitted access to the classified information needed to formulate recommendations to the Department of Commerce. The DEAC will convene as appropriate, but in no case less than quarterly.

Dated: July 18, 2006.
Matthew Borman,
Deputy Assistant Secretary of Commerce for Export Administration.

[FR Doc. E6-11625 Filed 7-20-06; 8:45 am]

BILLING CODE 3510-33-P